DEPARTMENT OF HEALTH AND HUMAN SERVICES

Centers for Disease Control and Prevention

[Docket No. CDC-2017-0103]

Request for Information on Effective, Large-Scale, Sustainable Approaches To Help People Quit Using Tobacco by Employing Evidence-Based Treatment Options

AGENCY: Centers for Disease Control and Prevention, Department of Health and Human Services (HHS).

ACTION: Request for information.

SUMMARY: The Centers for Disease Control and Prevention (CDC) within the Department of Health and Human Services (HHS) is requesting information from the public to inform future activities regarding how to efficiently and cost effectively help people quit using tobacco using evidence-based treatment options.

DATES: Written comments must be received on or by January 2, 2018.

ADDRESSES: Submit comments by any one of the following methods:

• Internet: Electronic comments may be sent via http://www.regulations.gov, docket control number CDC-2017-0103. Please follow the directions on the site to submit comments; or

• Mail: Comments may also be sent by mail to the attention of Pamela Lemos, Office on Smoking and Health, Centers for Disease Control and Prevention, 4770 Buford Highway, Mail Stop F-79, Atlanta, GA 30341.

All relevant comments will be posted without change to http://www.regulations.gov including any personal information provided.

FOR FURTHER INFORMATION CONTACT: Pamela Lemos, Office on Smoking and Health, Centers for Disease Control and Prevention, 4770 Buford Highway, Atlanta, GA 30341; Telephone (770) 488-5709; Email: OSHFRN@cdc.gov.

SUPPLEMENTARY INFORMATION:

Scope of Problem

Cigarette smoking is the leading cause of premature death and disease in the United States, causing about 480,000 deaths each year and costing the country over $300 billion annually in health care spending and lost productivity.1 2 Helping tobacco users quit completely is the quickest approach to reducing tobacco-related disease, death, and costs.⁷ Quitting smoking has immediate and long-term health benefits.¹ While quitting smoking at any age is beneficial, smokers who quit by the age of 35 to 44 years can prevent most of the risk of dying from a smoking-related disease.1 8

Most cigarette smokers say that they want to quit, more than half try to quit each year, and almost three in five American adults who ever smoked have quit.³ Several treatments are proven effective in helping tobacco users quit, including individual, group, and telephone counseling and seven FDA-approved cessation medications.3 4 Receiving advice to quit and quitting assistance from health care providers also increases quit rates.4 5 The use of both counseling and medication when trying to quit is more effective than using either method alone.4 5 However, only one-third of smokers use counseling and/or medication when trying to quit, and only one in twenty smokers use both.³ While adult cigarette smoking rates have been declining overall for several decades, certain groups continue to smoke at high rates and face special challenges in quitting, including adults who live below the poverty level and adults with behavioral health conditions.⁶ Those with behavioral health conditions include adults with mental illness or substance abuse disorders. The Substance Abuse and Mental Health Services Administration's National Survey on Drug Use and Health (NSDUH) defines mental illness as any diagnosable mental, behavioral, or emotional disorder and defines substance use disorder as dependence or abuse of alcohol or illicit drugs.

Many resources are available to help smokers connect with evidence-based treatments. Telephone quitlines exist in all states and other innovative and emerging resources are available such as web based platforms, texting, chat, and mobile apps. Many smokers, however, are unaware of these resources or have misconceptions about them.

Approach

CDC is seeking information from the public to inform future activities that could efficiently and cost effectively connect tobacco users with evidence-based treatment options to help them quit. We plan to use the information gathered to inform activities including, but not limited to, state tobacco control programming, national governmental and nongovernmental organization work, and other entities that work to make broadly available and sustainable connections between people who want to quit using tobacco and evidence-based cessation assistance.

The goal of this effort is to ensure that all tobacco users who want help quitting are aware of and have ready access to evidence-based treatment options through channels that they are comfortable using, including but not limited to telephone quitlines. We will carefully review and consider all comments received to this request for information.

CDC is specifically interested in receiving information on the following topics:

(1) How can CDC leverage emerging technologies to deliver evidence-based cessation interventions through new and innovative platforms that have broad reach, especially among younger adults, those with low income, and adults with chronic and/or behavioral health conditions?

(2) What are some innovative approaches to reduce the cost—in time, staffing, and funding—of providing effective cessation services to people who want to quit using tobacco?

(3) How might standardization of quitline services achieve greater efficiency while also preserving state quitlines' “brands,” flexibility, and capacity for innovation?

(4) What communication channels and communication strategies should CDC consider employing to ensure that both tobacco users, including those belonging to high-risk and disadvantaged populations, and health care providers are aware of and have access to evidence-based cessation resources?

(5) What role should CDC, state and local health departments, not for profit institutions, traditional healthcare providers, and/or professional healthcare partner organizations, play in ensuring that high-risk populations (such as smokers living below the poverty level or those with behavioral health conditions) have access to tailored cessation services of appropriate intensity to help them successfully quit?

(6) How can CDC support state and local health departments, traditional healthcare providers, not for profit health institutions, and professional healthcare partner organizations to ensure that evidence-based tobacco cessation interventions are integrated into primary and behavioral health care settings on a consistent and sustainable basis?

(7) How can the public health sector most effectively maximize the impact of public and private insurance coverage of cessation treatments as part of efforts to ensure that all tobacco users have barrier-free access to these treatments?

References

1. U.S. Department of Health and Human Services. The Health Consequences of Smoking—50 Years of Progress: A Report of the Surgeon General. Atlanta: U.S. Department of Health and Human Services, Centers for Disease Control and Prevention, National Center for Chronic Disease Prevention and Health Promotion, Office on Smoking and Health, 2014.

2. Xu X, Bishop EE, Kennedy SM, Simpson SA, Pechacek TF. Annual Healthcare Spending Attributable to Cigarette Smoking: An Update. American Journal of Preventive Medicine 2014;48(3):326-33.

3. Babb S, Malarcher A, Schauer G, Asman K, Jamal A. Quitting Smoking Among Adults—United States, 2000-2015. MMWR Morb Mortal Wkly Rep 2017;65:1457-1464.

4. Siu AL; US Preventive Services Task Force. Behavioral and pharmacotherapy interventions for tobacco smoking cessation in adults, including pregnant women: U.S. Preventive Services Task Force recommendation statement. Ann Intern Med 2015;163:622-34.

5. Fiore MC, Jaén CR, Baker TB, et al. Treating Tobacco Use and Dependence: 2008 Update—Clinical Practice Guidelines. Rockville (MD): U.S. Department of Health and Human Services, Public Health Service, Agency for Healthcare Research and Quality, 2008.

6. Jamal A, King BA, Neff LJ, Whitmill J, Babb SD, Graffunder CM. Current Cigarette Smoking Among Adults—United States, 2005-2015. MMWR Morb Mortal Wkly Rep 2016;65:1205-1211.

7. Institute of Medicine. Ending the Tobacco Problem: A Blueprint for the Nation. Washington: The National Academies Press, 2007.

8. Jha P, Ramasundarahettige C, Landsman V, Rostron B, Thun M, Anderson RN, McAfee T, Peto R. 21st-century hazards of smoking and benefits of cessation in the United States. New England Journal of Medicine 2013;368(4):341-50.

Dated: October 25, 2017.
Sandra Cashman,
Executive Secretary, Centers for Disease Control and Prevention.

[FR Doc. 2017-23669 Filed 10-30-17; 8:45 am]

BILLING CODE 4163-18-P